Proclamation 9524 of October 14, 2016

National Forest Products Week, 2016

By the President of the United States of America

A Proclamation

Filtering the air we breathe and the water we drink, and providing the habitats that are home to diverse species of fish and wildlife, forests are an essential part of our planet. Across America, they offer a wide range of cultural and recreational activities that have sustained and entertained people since long before our Nation's founding. Today, forests provide products we use each day, including paper, wood, and building and packaging materials. During National Forest Products Week, we express our appreciation for the incredible bounty forests provide and we renew our commitment to ensuring the next generation can enjoy their irreplaceable resources.

Our forests are at increasing risk from catastrophic wildfires, erosion, drought, and climate change. That is why my Administration is working alongside State and local leaders, landowners, and businesses to develop solutions to preserve our forests—because we must respond to challenges that threaten these important spaces. America's forests play an important role in addressing climate change by absorbing carbon pollution. It is critical that we protect and restore our forests, and through the Climate Action Plan, Federal agencies are coming together to strengthen the resilience of our forests and enhance their ability to absorb even more carbon pollution.

The health and well-being of our forests and our communities go hand in hand. With the Department of Agriculture, we are working to strengthen markets for forest products. By allocating millions of dollars to help expand technologies that encourage the use of wood in innovative ways, we are also striving to improve forest health and generate rural jobs. And we are exploring ways to help forestland owners respond to climate change—earlier this year, we released a roadmap for implementing key building blocks to achieve this goal, such as private forest growth and retention, stewardship of Federal forests, and promotion of wood products.

Forests generate billions of dollars in economic growth, sustaining local economies and enhancing communities across our country. We rely on them in so many aspects of our national life, and throughout this week, we must continue working to protect the precious resources our forests hold so they can continue enriching our world and supporting our way of life.

To recognize the importance of products from our forests, the Congress, by Public Law 86-753 (36 U.S.C. 123), as amended, has designated the week beginning on the third Sunday in October of each year as “National Forest Products Week” and has authorized and requested the President to issue a proclamation in observance of this week.

NOW, THEREFORE, I, BARACK OBAMA, President of the United States of America, do hereby proclaim October 16 through October 22, 2016, as National Forest Products Week. I call on the people of the United States to join me in recognizing the dedicated individuals who are responsible for the stewardship of our forests and for the preservation, management, and use of these precious natural resources for the benefit of the American people.

IN WITNESS WHEREOF, I have hereunto set my hand this fourteenth day of October, in the year of our Lord two thousand sixteen, and of the Independence of the United States of America the two hundred and forty-first.

[FR Doc. 2016-25484

Filed 10-18-16; 11:15 am]

Billing code 3295-F7-P